ENVIRONMENTAL PROTECTION AGENCY

[ER-FRL-6697-2]

Environmental Impact Statements and Regulations;

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070538, ERP No. D-COE-E30043-NC, North Topsail Beach Shoreline Protection Project, Seeking Federal and State Permits to Allow Implementation of a Non-Federal Shoreline and Inlet Management Project, New River Inlet, Onslow County, NC.

Summary: EPA expressed environmental concerns about the long-term impacts to marine habitats and migratory species from dredge/fill actions, and requested a more thorough cumulative impacts analysis and suggested the Corps consider developing a broader shoreline management strategy. Rating EC2.

EIS No. 20080008, ERP No. D-NPS-C65006-NY, Governors Island National Monument, General Management Plan, Implementation, New York Harbor, NY.

Summary: EPA does not object to the proposed action. Rating LO.

Final EISs

EIS No. 20070553, ERP No. F-BLM-J65433-WY, Rawlins Field Office Planning Area Resource Management Plan, Addresses the Comprehensive Analysis of Alternatives for the Planning and Management of Public Land and Resource Administered by (BLM), Albany, Carbon, Laramie and Sweetwater Counties, WY.

Summary: EPA continues to have environmental concerns about cumulative impacts to air quality, especially with the level of resource development in southwest Wyoming.

EIS No. 20080007, ERP No. F-STA-J03021-00, Keystone Oil Pipeline Project, Proposed Construction, Connection, Operation and Maintenance, Applicant for Presidential Permit, ND, SD, NE, KS, MO, IL, and OK.

Summary: EPA expressed environmental concerns about wetlands, and requested clarification on the applicability of Executive Order 11990.

EIS No. 20080027, ERP No. F-NRC-C06017-NY, GENERIC—James A. FitzPatrick Nuclear Power Plant, License Renewal of Nuclear Plant, Site Specific Supplement 31 to NUREG-1437, Town of Sriba, NY.

Summary: EPA continues to have environmental concerns about impacts to fisheries.

EIS No. 20080039, ERP No. F-BLM-K39018-NV, Kane Springs Valley Groundwater Development Project, to Construct Infrastructure Required to Pump and Convey Groundwater Resources, Right-of-Way Application, Lincoln County Water District, Lincoln County, NV.

Summary: EPA continues to have environmental concerns about cumulative impacts to the Kane Springs Valley carbonate-rock aquifer, especially long-term reliability. The final EIS did not include information on water use efficiency, supply and demand management measures, and back-up water supplies; we recommend that this information be included in the ROD with a commitment to work closely with groundwater users to promote sustainable use measures.

Dated: March 18, 2008.
Robert W. Hargrove,
Director, NEPA Compliance Division, Office of Federal Activities.

[FR Doc. E8-5802 Filed 3-20-08; 8:45 am]

BILLING CODE 6560-50-P